DEPARTMENT OF JUSTICE

Notice of Proposed Settlement Agreement Under the Comprehensive Environmental Response, Compensation, and Liability Act, the Oil Pollution Act, and the Clean Water Act

Notice is hereby given that the United States Department of Justice, on behalf of the U.S. Department of the Interior, Fish and Wildlife Service (“DOI”), together with the State of New York Department of Environmental Conservation (“DEC”), reached agreement on a proposed settlement with Honeywell International, Inc. and Amphenol Corporation regarding natural resource damages arising from environmental contamination at the Richardson Hill Site in Sidney and Masonville, New York. The settlement will resolve claims under the Comprehensive Environmental Response, Compensation, and Liability Act, the Oil Pollution Act, the Clean Water Act, and applicable state law.

The settlement will require Honeywell and Amphenol to pay a total of $400,000. DOI and DEC will receive $81,210 and $20,000 respectively to reimburse assessment costs. The rest of the money, $298,790, will fund projects to restore, rehabilitate, replace, and/or acquire the equivalent of the natural resources injured at the site, including the costs of restoration planning and oversight activities.

The publication of this notice opens a period for public comment on the settlement agreement. Comments should be addressed to the Assistant Attorney General, Environment and Natural Resources Division, and should refer to Richardson Hill Settlement Agreement, D.J. Ref. No. 90-11-3-11059. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the settlement agreement may be examined and downloaded at this Justice Department Web site: http://www.usdoj.gov/enrd/Consent_Decrees.html. We will provide a paper copy of the settlement agreement upon written request and payment of reproduction costs. Please mail your request and payment to: Consent Decree Library, U.S. DOJ—ENRD, P.O. Box 7611, Washington, DC 20044-7611.

Please enclose a check or money order for $2.50 (25 cents per page reproduction cost) payable to the United States Treasury.

Robert E. Maher Jr.,
Assistant Section Chief, Environmental Enforcement Section, Environment and Natural Resources Division.

[FR Doc. 2014-29444 Filed 12-15-14; 8:45 am]

BILLING CODE 4410-15-P